FEDERAL COMMUNICATIONS COMMISSION

47 CFR Part 90

[PS Docket No. 06-229; WT Docket 06-150; WP Docket 07-100; FCC 11-6]

Implementing a Nationwide, Broadband, Interoperable Public Safety Network in the 700 MHz Band

AGENCY: Federal Communications Commission.

ACTION: Final rule.

SUMMARY: In this document, the Commission adopts an initial set of rules necessary to ensure the development of a nationwide interoperable public safety broadband network. The establishment of a common air interface for 700 MHz public safety broadband networks will create a foundation for interoperability and provide a clear path for the deployment and evolution of the nationwide network.

DATES: Effective: August 18, 2011, except § 90.1407(f) which contains information collections requirements that have not been approved by OMB. The Federal Communications Commission will publish a document in the Federal Register announcing the effective date. The incorporation by reference of certain publications listed in the rules is approved by the Director of the Federal Register as of August 18, 2011.

FOR FURTHER INFORMATION CONTACT: Jennifer Manner, Federal Communications Commission, Public Safety and Homeland Security Bureau, 445 12th Street, SW., Room 7-C761, Washington, DC 20554. Telephone: (202)-418-3619, e-mail: jennifer.manner@fcc.gov.

SUPPLEMENTARY INFORMATION: In the Third Report and Order, FCC 11-6, adopted January 25, 2011, and released January 26, 2011, the Commission adopted rules to promote development of a nationwide interoperable public safety broadband network. The Commission designated Long Term Evolution (LTE), in particular at least 3GPP Standard, Evolved Universal Terrestrial Radio Access (E-UTRA) Release 8 (LTE) and associated Evolved Packet Core (EPC), as the common technology platform for the nationwide network. The Commission also required that public safety broadband network operators submit to the Public Safety and Homeland Security Bureau a certification that their networks support required LTE interfaces. The Commission also stayed certain Part 90 rules that were designed to implement a mandatory public-private partnership that has not materialized. These rules include 47 CFR 90.1403(b)(1), (2), (3), (5), (8); 90.1405 through 90.1430; and 90.1435. The Third Report and Order is available at http://www.fcc.gov/Daily_Releases/Daily_Business/2011/db0204/FCC-11-6A1.pdf.

As required by the Regulatory Flexibility Act, the Commission certifies that the requirements of the Third Report and Order will not have a significant economic impact on a substantial number of small entities. The Third Report and Order contains new or modified information collection requirements subject to the Paperwork Reduction Act of 1995 (PRA), Public Law 104-13. It will be submitted to the Office of Management and Budget (OMB) for review under Section 3507(d) of the PRA. OMB, the general public, and other Federal agencies are invited to comment on the new or modified information collection requirements contained in this proceeding. The Commission shall send a copy of the Third Report and Order in a report to be sent to Congress and the Government Accountability Office pursuant to the Congressional Review Act, see 5 U.S.C. 801(a)(1)(A).

List of Subjects in 47 CFR Part 90

Administrative practice and procedure, Business and industry, Civil defense, Common carriers, Communications equipment, Emergency medical services, Incorporation by reference, Individuals with disabilities, Radio, Reporting and recordkeeping requirements.

Federal Communications Commission.
Marlene H. Dortch,
Secretary.

For the reasons discussed in the preamble, The Federal Communications Commission amends 47 CFR part 90 as follows:

PART 90—PRIVATE LAND MOBILE RADIO SERVICES

1. The authority citation for part 90 continues to read as follows:

Authority: Sections 4(i), 11, 303(g), 303(r), and 332(c)(7) of the Communications Act of 1934, as amended, 47 U.S.C. 154(i), 161, 303(g), 303(r), and 332(c)(7) unless otherwise noted.

2. Section 90.7 is amended by adding definitions for “Public Safety Broadband Network Operator” and “Service Availability” and revising the definition for “Upper 700MHz D Block license” to read as follows:

§ 90.7 Definitions.

* * * * *

Public Safety Broadband Network Operator. A Public Safety Network Operator is a public safety entity that is authorized by lease or other permitted mechanism under the Public Safety Broadband License to operate a public safety broadband network in the 763-768 MHz and 793-798 MHz bands.

* * * * *

Service Availability. The use of a public safety broadband network on a day-to-day basis for operational purposes by at least fifty users.

* * * * *

Upper 700 MHz D Block license. The Upper 700 MHz D Block license authorizes services in the 758-763 MHz and 788-793 MHz bands.

* * * * *

3. Section 90.203 is amended by adding paragraph (p) to read as follows:

§ 90.203 Certification required

* * * * *

(p) Equipment certification for transmitters in the 763-769 and 793-799 MHz Bands. Applications for all transmitters must show support for at least 3GPP TS 23.401, V8.8.0 (2009-12), “3rd Generation Partnership Project; Technical Specification Group Services and System Aspects; General Packet Radio Service (GPRS) enhancements for Evolved Universal Terrestrial Radio Access Network (E-UTRAN) access (Release 8),” December, 2009, which is incorporated by reference. The Director of the Federal Register approves this incorporation by reference in accordance with 5 U.S.C. 552(a) and 1 CFR part 51. Copies may be inspected at the Federal Communications Commission, 445 12th Street, SW., Washington, DC 20554 or National Archives and Records Administration (NARA). For information on the availability of this material at NARA, call 202-741- 6030, or go to: http://www.archives.gov/federal_register/code_of_federal_regulations/ibr_locations.html. Copies of the 3GPP Standard E-UTRA Release 8 can be obtained from 3GPP Mobile Competence Centre, c/o ETSI, 650, route des Lucioles, 06921 Sophia-Antipolis Cedex, France, Tel: +33 (0)4 92 94 42 00, Fax: +33 4 93 65 47 16, http://www.3gpp.org.

4. Section 90.1407 is amended by adding paragraphs (d) through (f) to read as follows:

§ 90.1407 Spectrum use in the network.

* * * * *

(d) Public Safety Broadband Network Operators must use at least 3GPP TS 23.401, V8.8.0 (2009-12), “3rd Generation Partnership Project; Technical Specification Group Services and System Aspects; General Packet Radio Service (GPRS) enhancements for Evolved Universal Terrestrial Radio Access Network (E-UTRAN) access (Release 8),” December, 2009 (incorporated by reference). The Director of the Federal Register approves this incorporation by reference in accordance with 5 U.S.C. 552(a) and 1 CFR part 51. Copies may be inspected at the Federal Communications Commission, 445 12th Street, SW., Washington, DC 20554 or National Archives and Records Administration (NARA). For information on the availability of this material at NARA, call 202-741- 6030, or go to: http://www.archives.gov/federal_register/code_of_federal_regulations/ibr_locations.html. Copies of the 3GPP Standard E-UTRA Release 8 can be obtained from 3GPP Mobile Competence Centre, c/o ETSI, 650, route des Lucioles, 06921 Sophia-Antipolis Cedex, France, Tel: +33 (0)4 92 94 42 00, Fax: +33 4 93 65 47 16, http://www.3gpp.org. Later versions of this standard may be employed by Public Safety Broadband Network Operators provided they are backwards-compatible with this version.

(e) Systems in the network must support the following interfaces: Uu-LTE air interface; S6a—Visited MME to Home HSS; S8—Visited SGW to Home PGW; S9—Visited PCRF to Home PCRF for dynamic policy arbitration; S10—MME to MME support for Category 1 handover support; X2—eNodeB to eNodeB; S1-u—between eNodeB and SGW; S1-MME—between eNodeB and MME; S5—between SGW and PGW; S6a—between MME and HSS; S11—between MME and SGW; SGi—between PGW and external PDN; Gx—between PGW and PCRF (for QoS policy, filter policy and charging rules); Rx—between PCRF and AF located in a PDN; Gy/Gz—offline/online charging interfaces.

(f) A Public Safety Broadband Network Operator must submit to the Chief of the Public Safety and Homeland Security Bureau prior to deployment of any Radio Access Network equipment a certification that it will be in compliance with paragraph (e) of this section prior to the date its network achieves service availability.

[FR Doc. 2011-20831 Filed 8-17-11; 8:45 am]

BILLING CODE 6712-01-P